DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: December 21, 2017, 10:00 a.m.

PLACE: Room 2C, 888 First Street NE, Washington, DC 20426.

STATUS: Open.

MATTERS TO BE CONSIDERED: Agenda, *NOTE—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's website at http://ferc.capitolconnection.org/ sing the eLibrary link, or may be examined in the Commission's Public Reference Room.

1038th—Meeting
[Regular Meeting; December 21, 2017, 10:00 a.m.]
Item No. | Docket No. | Company
ADMINISTRATIVE
A-1 | AD18-1-000 | Agency Administrative Matters.
A-2 | AD18-2-000 | Customer Matters, Reliability, Security and Market Operations.
ELECTRIC
E-1 | RM18-2-000 AD17-9-000 | Cyber Security Incident Reporting Reliability Standards.
E-2 | RM17-3-000 | Fast-Start Pricing in Markets Operated by Regional Transmission Organizations and Independent System Operators.
E-3 | EL18-33-000 | New York Independent System Operator, Inc.
E-4 | EL18-34-000 | PJM Interconnection, L.L.C.
E-5 | EL18-35-000 | Southwest Power Pool, Inc.
E-6 | ER18-208-000 | Southwest Power Pool, Inc.
E-7 | ER17-2027-000, ER17-2027-001 | Southwest Power Pool, Inc.
E-8 | ER17-1741-000 ER17-1741-001 | Southwest Power Pool, Inc.
E-9 | ER17-426-000, ER17-426-002 | Southwest Power Pool, Inc.
E-10 | ER17-2097-001 | Midcontinent Independent System Operator, Inc.
E-11 | ER05-1056-010 | Chehalis Power Generating, L.P.
E-12 | ER17-192-002 | Northern Maine Independent System Administrator, Inc.
E-13 | EL17-51-000, ER17-912-002 | Arizona Public Service Company.
E-14 | EL16-116-000, ER16-277-008, ER16-1456-009 | Talen Energy Marketing, LLC.
| ER10-2432-014 | Bayonne Plant Holding, L.L.C.
| ER10-2435-014 | Camden Plant Holding, L.L.C.
| ER10-2442-012 | Elmwood Park Power, LLC.
| ER10-2444-014 | Newark Bay Cogeneration Partnership, L.P.
| ER10-3272-004 | Lower Mount Bethel Energy, LLC.
| ER10-2449-012 | York Generation Company LLC.
| ER16-2438-002 | Pedricktown Cogeneration Company LP.
| ER16-2439-002 | H.A. Wagner LLC.
| ER16-2440-002 | Brandon Shores LLC.
GAS
G-1 | RP18-183-000 | Enterprise Products Operating LLC and Tenaska Marketing Ventures.
G-2 | RP17-851-000 | Gulf South Pipeline Company, LP.
G-3 | RP17-848-000 | Midcontinent Express Pipeline LLC.
G-4 | PR17-28-000 | Bay Gas Storage Company, Ltd.
G-5 | RP17-806-000 | Discovery Gas Transmission LLC.
G-6 | RP17-990-000 | Northern Natural Gas Company.
G-7 | RP18-167-000 | Energy Corporation of America and Greylock Production, LLC.
G-8 | OR17-21-000 | Grieve Pipeline, LLC.
HYDRO
H-1 | RM16-19-000 | Annual Charges for Use of Government Lands in Alaska.
H-2 | P-2660-029 | Woodland Pulp LLC.
H-3 | P-14796-000 | GreenGenStorage LLC.
H-4 | P-14837-001 | Advanced Hydropower, Inc.
H-5 | P-1256-032 | Loup River Public Power District.
H-6 | P-1971-122 | Idaho Power Company.
CERTIFICATES
C-1 | CP16-33-000 | Town of Walnut, Mississippi.
C-2 | CP13-83-000 | Arlington Storage Company, LLC.
C-3 | CP16-9-003 | Algonquin Gas Transmission, LLC.
| CP16-9-005, CP16-9-006, CP16-9-007 | Maritimes & Northeast Pipeline, L.L.C.

Dated: December 14, 2017.
Kimberly D. Bose,
Secretary.

A free webcast of this event is available through http://ferc.capitolconnection.org/. Anyone with internet access who desires to view this event can do so by navigating to www.ferc.gov's Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2017-27371 Filed 12-15-17; 11:15 am]

BILLING CODE 6717-01-P